SECURITIES AND EXCHANGE COMMISSION

[File No. 500-1]

Order of Suspension of Trading; 2TheMart.com, Inc., and The 3DO Co., Respondents

November 20, 2008.

It appears to the Securities and Exchange Commission that there is a lack of current and accurate information concerning the securities of 2TheMart.com, Inc. because it has not filed any periodic reports since it filed a Form 10-Q for the period ended March 21, 2000.

It appears to the Securities and Exchange Commission that there is a lack of current and accurate information concerning the securities of The 3DO Co. because it has not filed any periodic reports since it filed a Form 10-Q for the period ended December 31, 2002.

The Commission is of the opinion that the public interest and the protection of investors require a suspension of trading in the securities of the above-listed companies.

Therefore, it is ordered, pursuant to Section 12(k) of the Securities Exchange Act of 1934, that trading in the securities of the above-listed companies, is suspended for the period from 9:30 a.m. EST on November 20, 2008, through 11:59 p.m. EST on December 4, 2008.

By the Commission.
Jill M. Peterson
Assistant Secretary.

[FR Doc. E8-27939 Filed 11-20-08; 11:15 am]

BILLING CODE 8011-01-P